DEPARTMENT OF ENERGY

Federal Energy Regulatory Commission

[Project Nos. 2105-089; 2107-016]

Pacific Gas and Electric Company; Notice of Designation of Certain Commission Personnel as Non-Decisional

November 2, 2005.

Commission staff members Elizabeth Molloy (Office of General Counsel; elizabeth.molloy@ferc.gov, 202-502-8771) and Kenneth Hogan (Office of Energy Projects; kenneth.hogan@ferc.gov, 202-502-8434) are assigned to help resolve fish passage issues for the above-listed hydroelectric projects on the Feather River and its major tributaries.

As non-decisional staff, Mr. Hogan and Ms. Molloy will not participate in an advisory capacity in the Commission's review of any offer of any settlement, settlement agreement, or deliberations concerning the disposition of license applications pending before the Commission for the Upper North Fork Feather River Project, No. 2105 and Poe Project, No. 2107. Previously, by notices dated June 29, 2004 and December 7, 2004, Ms. Molloy and Mr. Hogan, respectively, were designated as non-decisional for the Feather River Project No. 2100 (Oroville).

Different Commission advisory staff will be assigned to review any offer of settlement or settlement agreement, and process any license applications pending before the Commission, for the above mentioned projects, including providing advice to the Commission with respect to any agreements and/or applications.

Non-decisional staff and advisory staff will be prohibited from communicating with one another concerning any filed settlement and license applications for the above mentioned projects.

Magalie R. Salas,
Secretary.

[FR Doc. E5-6188 Filed 11-9-05; 8:45 am]

BILLING CODE 6717-01-P